SUSQUEHANNA RIVER BASIN COMMISSION

Actions Taken at the June 4, 2025 Meeting

AGENCY: Susquehanna River Basin Commission.

ACTION: Notice.

SUMMARY: As part of its regular business meeting held on June 4, 2025, in Harrisburg, Pennsylvania, the Commission approved the applications of certain water resources projects and took additional actions, as set forth in the SUPPLEMENTARY INFORMATION below.

DATES: June 4, 2025.

ADDRESSES: Susquehanna River Basin Commission, 4423 N Front Street, Harrisburg, PA 17110-1788.

FOR FURTHER INFORMATION CONTACT: Jason E. Oyler, General Counsel and Secretary, telephone: (717) 238-0423, ext. 1312, fax: (717) 238-2436; email: joyler@srbc.gov. Regular mail inquiries may be sent to the above address. See also the Commission website at www.srbc.gov.

SUPPLEMENTARY INFORMATION: The Commission took the following actions at its June 4, 2025 business meeting: (1) Adopted Resolution 2025-02 regarding the FY2026 Budget Reconciliation; (2) Adopted Resolution 2025-03 to adopt the updated Dry Cooling Resolution; (3) Approved a grant agreement and grant amendment; (4) Adopted Policy 2025-01 on the Acceptance of Gifts, Property and Other Funds; (5) Adopted Resolution 2025-04 of the Annual Update to the Water Resources Program; and (6) Approved 27 actions on 18 regulatory program projects as listed below.

Project Applications Approved

1. Project Sponsor: BlueTriton Brands, Inc. Project Facility: Big Spring, Spring Township, Centre County, Pa. Applications for consumptive use of up to 0.247 mgd (peak day) and an out-of-basin diversion of up to 0.247 mgd (peak day).

2. Project Sponsor: Chester County Solid Waste Authority. Project Facility: Lanchester Landfill, Caernarvon and Salisbury Townships, Lancaster County, and Honey Brook Township, Chester County, Pa. Applications for renewal with modification of consumptive use of up to 0.099 mgd (30-day average) and an out-of-basin diversion of up to 0.099 mgd (30-day average) (Docket No. 20100602). Located in an Environmental Justice area.

3. Project Sponsor: Columbia Water Company. Project Facility: East Donegal Division, East Donegal Township, Lancaster County, Pa. Application for renewal of groundwater withdrawal of up to 0.324 mgd (30-day average) from Well 2 (Docket No. 19990702).

4. Project Sponsor and Facility: Expand Operating LLC (Susquehanna River), Great Bend Township, Susquehanna County, Pa. Application for renewal with modification of surface water withdrawal of up to 3.500 mgd (peak day) (Docket No. 20241214).

5. Project Sponsor and Facility: Expand Operating LLC (Susquehanna River), Mehoopany Township, Wyoming County, Pa. Application for renewal with modification of surface water withdrawal of up to 3.700 mgd (peak day) (Docket No. 20220602).

6. Project Sponsor and Facility: Fredericksburg Sewer and Water Authority, Bethel Township, Lebanon County, Pa. Applications for groundwater withdrawals (30-day averages) of up to 0.158 mgd from Well 7 and 0.144 mgd from Well 8.

7. Project Sponsor and Facility: New Holland Borough Authority, Earl Township, Lancaster County, Pa. Application for renewal of groundwater withdrawal of up to 0.790 mgd (30-day average) from Well 3 (Docket No. 19950307). Located in an Environmental Justice area.

8. Project Sponsor: Penn-View, Inc. Project Facility: Wyncote Golf Club, Lower Oxford Township, Chester County, Pa. Application for renewal with modification of consumptive use of up to 0.350 mgd (30-day average) (Docket No. 20000802).

9. Project Sponsor: Pixelle Specialty Solutions LLC. Project Facility: Spring Grove Mill (Codorus Creek), Spring Grove Borough and North Codorus and Jackson Townships, York County, Pa. Modification to increase the maximum instantaneous withdrawal rate (Docket No. 20200912).

10. Project Sponsor and Facility: Rausch Creek Generation, LLC, Frailey and Tremont Townships, Schuylkill County, Pa. Applications for renewal of consumptive use of up to 0.930 mgd (peak day) and groundwater withdrawals (30-day averages) of up to 1.120 mgd from the Lykens Well and 1.120 mgd from the Westwood Well (Docket No. 19990301). Located in an Environmental Justice area.

11. Project Sponsor and Facility: Stewartstown Borough Authority, Hopewell Township, York County, Pa. Application for renewal of groundwater withdrawal of up to 0.058 mgd (30-day average) from Well 7 (Docket No. 19950306).

12. Project Sponsor and Facility: Upper Halfmoon Water Company, Halfmoon Township, Centre County, Pa. Application for renewal of groundwater withdrawal of up to 0.396 mgd (30-day average) from Well 5 (Docket No. 19930502).

13. Project Sponsor: Veolia Water Pennsylvania, Inc. Project Facility: Newberry Operation, Newberry Township, York County, Pa. Application for renewal of groundwater withdrawal of up to 0.140 mgd (30-day average) from Conley 2 Well (Docket No. 19940708).

14. Project Sponsor: Village of Bath. Project Facility: Bath Electric, Gas and Water Systems, Town of Bath, Steuben County, N.Y. Application for renewal of groundwater withdrawal of up to 0.840 mgd (30-day average) from Well 8 (Docket No. 19980105).

15. Project Sponsor: York Building Products Co., Inc. Project Facility: Bonnybrook Quarry, South Middleton Township, Cumberland County, Pa. Application for consumptive use of up to 0.090 mgd (30-day average).

Commission-Initiated Project Approval Modification

16. Project Sponsor: Republic Services of Pennsylvania, LLC. Project Facility: Modern Landfill, Windsor and Lower Windsor Townships, York County, Pa. Conforming the grandfathered amount with the forthcoming determination for consumptive use of up to 0.044 mgd (30-day average) (Docket No. 20160906).

Projects Tabled

1. Project Sponsor and Facility: Knoebels Three Ponds, Inc., Ralpho Township, Northumberland County, Pa. Application for consumptive use of up to 0.249 mgd (30-day average).

2. Project Sponsor: Mott's LLP. Project Facility: Aspers Plant, Menallen Township, Adams County, Pa. Applications for renewal of groundwater withdrawals (30-day averages) of up to 0.181 mgd from Well 7, 0.165 mgd from Well 9, and 0.236 mgd from Well 10; renewal with modification to increase to 0.396 mgd from Well 11; and consumptive use of up to 0.990 mgd (peak day) (Docket Nos. 19940303 and 20010204).

Authority: Public Law 91-575, 84 Stat. 1509 et seq., 18 CFR parts 806, 807, and 808.

Dated: June 9, 2025.
Jason E. Oyler,
General Counsel and Secretary to the Commission.

[FR Doc. 2025-10703 Filed 6-11-25; 8:45 am]

BILLING CODE 7040-01-P